DEPARTMENT OF HEALTH AND HUMAN SERVICES

National Institutes of Health

Center for Scientific Review; Amended Notice of Meeting

Notice is hereby given of a change in the meeting of the Transplantation, Tolerance, and Tumor Immunology, March 2, 2006, 8 a.m. to March 3, 2006, 12 p.m., The Fairmont Washington, DC, 2401 M Street, NW., Washington, DC 20037 which was published in the Federal Register on February 14, 2006, 71 FR 7786-7789.

The starting time of the meeting on March 2, 2006, has been changed to 2 p.m. until adjournment. The meeting dates and location remain the same. The meeting is closed to the public.

Dated: February 28, 2006.
Anna Snouffer,
Acting Director, Office of Federal Advisory Committee Policy.

[FR Doc. 06-2282 Filed 3-9-06; 8:45 am]

BILLING CODE 4140-01-M